DEPARTMENT OF DEFENSE

Office of the Secretary

Manual for Courts-Martial; Public Meeting

AGENCY: Joint Service Committee on Military Justice (JSC).

ACTION: Notice.

SUMMARY: This notice sets forth the schedule and proposed agenda for the 2000 draft annual review public meeting of the JSC. This notice also describes the functions of the JSC.

DATES: Wednesday, 28 June 2000 at 2 p.m.

ADDRESSES: Room 808, 1501 Wilson Blvd, Arlington, VA 22209-2403.

FOR FURTHER INFORMATION CONTACT: Lieutenant Colonel Thomas C. Jaster, U.S. Air Force Legal Services Agency, 112 Luke Avenue, Room 343, Bolling Air Force Base, Washington, DC 20332-8000, (202) 767-1539; FAX (202) 404-8755

SUPPLEMENTARY INFORMATION:

Agenda

The JSC will receive public comment concerning its 2000 draft annual review of the Manual for Courts-Martial as published in the Federal Register at 65 FR 30963 on May 15, 2000.

The Judge Advocates General established the JSC in 1972. The JSC currently operates under Department of Defense Directive 5500.17, May 8, 1996. The function of the JSC is to improve military justice through preparation and evaluation of proposed amendments and changes to the Uniform Code of Military Justice and the Manual for Courts-Martial.

This notice is provided in accordance with DoD Directive 5500.17, “Role and Responsibilities of the Joint Service Committee (JSC) on Military Justice,” May 8, 1996. This notice is intended only to improve the internal management of the Federal Government. It is not intended to create any right or benefit, substantive or procedural, enforceable at lay by any party against the United States, its agencies, its officers, or any person.

L.M. Bynum,
Alternate OSD Federal Register Liaison Officer, Department of Defense.

[FR Doc. 00-15081 Filed 6-14-00; 8:45 am]

BILLING CODE 5001-10-M